NATIONAL LABOR RELATIONS BOARD

Restructuring of National Labor Relations Board's Headquarters' Offices

AGENCY: National Labor Relations Board.

ACTION: Notice of Reorganization; Restructuring of National Labor Relations Board's Headquarters' Offices.

Authority: Sections 3, 4, 6, and 10 of the National Labor Relations Act, 29 U.S.C. Sec. 3, 4, 6, and 10.

SUMMARY: This notice advises the public that the National Labor Relations Board is restructuring and realigning the location and lines of authority of certain of its Headquarters' offices in the Division of Legal Counsel reporting to the Office of the General Counsel.

These administrative changes are being adopted in order to improve the delivery of services, and streamline, integrate and enhance management functions.

DATES: Effective Date: January 25, 2016.

ADDRESSES: National Labor Relations Board, 1015 Half Street SE., Room 5117, Washington, DC 20570.

FOR FURTHER INFORMATION CONTACT: William B. Cowen, Solicitor, National Labor Relations Board, 1015 Half Street SE., Room 5117, Washington, DC 20570. Telephone: (202) 273-2910 (this is not a toll-free number), 1-866-315-6572 (TTY/TDD).

SUPPLEMENTARY INFORMATION: In 2013, the National Labor Relations Board centralized the services of several Headquarters' offices and restructured them into one independent Division of Legal Counsel with three branches—(1) Contempt, Compliance and Special Litigation, (2) Freedom of Information Act (FOIA) Branch, and (3) Ethics, Employment and Administrative Law. In addition, it housed a Lead Technology Counsel, who directly reports to the Division Head. When dealing with matters on behalf of the five-member Board or the various Board-side offices, the Division of Legal Counsel coordinates through the Office of the Solicitor. For further information regarding this restructuring please see the related Federal Register Notice published at 78 FR 44981-44982.

Experience operating under this new structure has demonstrated that a further restructuring is appropriate. Specifically, Labor Relations and Special Counsel do not fit as well as anticipated in a Division that is typically engaged in casehandling of Board matters and in ancillary litigation that may affect our statutory mission as the staff handles Agency collective bargaining and defense of Agency employee claims. Treating the Labor Relations and Special Counsel staff in a similar manner to the Agency's Office of Equal Employment Opportunity is deemed more appropriate. Further, while government and legal ethics staff performs some functions that assist with casehandling, it predominantly provides guidance that inures to the benefit of Agency employees, e.g., outside employment, outside practice of law, Hatch Act violations, and conflicts of interest. Further, upon reflection, it is deemed more appropriate for the Designated Agency Ethics Official (DAEO) to report directly to the Agency heads, rather than through an intermediary. Finally, in assessing the Agency's substantial litigation needs, it is deemed appropriate to create an E-Litigation Branch and hire sufficient staff to support the overwhelming e-litigation workload.

Accordingly, as of the effective date of this notice, the Ethics, Employment and Administrative Law Branch will cease to exist as a branch within the Division of Legal Counsel. Labor Relations and Special Counsel will move from the Division of Legal Counsel to directly report to the Office of the General Counsel and the Chairman as a new office entitled Special Counsel and Labor Relations Office, and Government and Legal Ethics will move from the Division of Legal Counsel to directly report to the Office of the General Counsel and the Chairman as a new office entitled Ethics Office. In addition, an E-Litigation Branch will be created in the Division of Legal Counsel, and the Lead Technology Counsel will continue to directly report to the Associate General Counsel of that Division, and will also supervise and manage a staff. Finally, the Associate General Counsel of the Division of Legal Counsel will act as the Chief FOIA Officer for the Agency.

These administrative changes are being adopted in order to improve the delivery of services, and streamline, integrate and enhance management functions. Because these administrative changes relate to the internal management of the Agency, pursuant to 5 U.S.C. 553, they are exempted from the notice and comment requirements of the Administrative Procedure Act.

Dated: Washington, DC, January 19, 2016.
By direction of the Board.
William B. Cowen,
Solicitor.

[FR Doc. 2016-01322 Filed 1-22-16; 8:45 am]

BILLING CODE 7545-01-P